DEPARTMENT OF ENERGY

Federal Energy Regulatory Commission

[Docket No. RD23-5-000]

Commission Information Collection Activities; Comment Request; Revision

AGENCY: Federal Energy Regulatory Commission.

ACTION: Notice of information collection and request for comments.

SUMMARY: In compliance with the requirements of the Paperwork Reduction Act of 1995, the Federal Energy Regulatory Commission (Commission or FERC) is soliciting public comment on proposed revisions of the currently approved information collection, FERC-725G, (Mandatory Reliability Standards for the Bulk-Power System) Approval of PRC Reliability Standard PRC-023-6. The 60-day notice comment period ended on July 1, 2024.

DATES: Comments on the collection of information are due August 22, 2024.

ADDRESSES: Send written comments on FERC-725G (1902-0252) to OMB through www.reginfo.gov/public/do/PRAMain. Attention: Federal Energy Regulatory Commission Desk Officer. Please identify the OMB Control Numbers in the subject line of your comments. Comments should be sent within 30 days of publication of this notice to www.reginfo.gov/public/do/PRAMain.

Please submit copies of your comments to the Commission. You may submit copies of your comments (identified by Docket No. RD23-5-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) Delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Jean Sonneman may be reached by email at DataClearance@FERC.gov, telephone at (202) 502-6362.

SUPPLEMENTARY INFORMATION:

Title: FERC-725G (Mandatory Reliability Standards for the Bulk-Power System: Approval of PRC Reliability Standard PRC-023-6.

OMB Control No.: 1902-0252.

Type of Request: Approval of FERC-725G information collection requirements associated with proposed PRC Reliability Standard PRC-023-6.

Abstract: This Notice pertains to the FERC-725G information collection requirements associated with Reliability Standard PRC-023-6 (Transmission Relay Loadability), the associated proposed implementation plan, and violation risk factors and violation severity levels. On March 2, 2023, the North American Electric Reliability Corporation (NERC) filed a petition seeking approval of proposed Reliability Standard PRC-023-6 (Transmission Relay Loadability), the associated proposed implementation plan, and violation risk factors and violation severity levels.¹ NERC also requested the Commission's approval of the retirement of the version of Reliability Standard PRC-023 that would be in effect (i.e., currently effective Reliability Standard PRC-023-4 or the approved but not yet effective Reliability Standard PRC-023-5).²

¹ NERC Petition at 1.

² NERC Petition at 1-2.

NERC explains that the proposed Reliability Standard would advance Bulk-Power System reliability by removing certain redundant and unnecessary language from the Standard related to the setting of out-of-step blocking relays. To achieve this, NERC proposes to retire the Reliability Standard's Requirement R2 related to setting out-of-step blocking schemes to allow tripping of phase protective relays and remove the Attachment A, Item 2.3 exclusion for protection systems intended for protection during stable power swings.³ NERC states that Requirement R2 is redundant because the fault condition addressed by Requirement R2 is addressed by Requirement R1 and requires the same compliance activity by the entity.⁴ NERC explains, thus, that Requirement R2 is not needed for reliability. Further, NERC explains that the exclusion in Attachment A, Item 2.3 is no longer necessary due to system changes.⁵

³ NERC Petition at 4.

⁴ NERC Petition at 21.

⁵ NERC Petition at 25-26.

On October 10, 2023, the Commission's Office of Electric Reliability issued a letter requesting that NERC provide additional information to explain how Requirement R2 of Reliability Standard PRC-023 is redundant to Requirement R1 and confirm whether the existing obligations in Requirement R2 would be enforced and audited under Requirement R1.⁶ NERC filed its amended petition on November 3, 2023. In its amended petition, NERC confirms that because Requirement R2 is redundant to Requirement R1, any entity noncompliance with existing obligations of Requirement R2 would be assessed under Requirement R1.⁷

⁶ RFI at 2.

⁷ NERC Amended Petition at 25.

The petition was noticed on March 22, 2023, with interventions, comments, and protests due on or before April 21, 2023. No interventions, comments, or protests were filed.

Due to NERC's confirmation that any entity's noncompliance with existing obligations under Requirement R2 (i.e., the proper setting out out-of-step blocking relays) can be assessed under Requirement R1 if R2 is retired, NERC's uncontested filing is hereby approved pursuant to the relevant authority delegated to the Director, Office of Electric Reliability under 18 CFR 375.303, effective as of the date of this order.

This action shall not be construed as approving any other application, including proposed revisions of Electric Reliability Organization or Regional Entity rules or procedures pursuant to 18 CFR 375.303(a)(2)(i). Such action shall not be deemed as recognition of any claimed right or obligation associated therewith and such action is without prejudice to any findings or orders that have been or may hereafter be made by the Commission in any proceeding now pending or hereafter instituted by or against the Electric Reliability Organization or any Regional Entity.

This order constitutes final agency action. Requests for rehearing by the Commission may be filed within 30 days of the date of issuance of this order, pursuant to 18 CFR 385.713. The revisions to PRC-023-6 will result in a change in how relay settings will be assessed under Requirement R1 of out-of-step blocking elements but will not result in reporting or recordkeeping requirements or burden. As of February 2024, there are 324 transmission owners, 1,173 generator owners, 371 distribution providers and 62 planning coordinators registered with NERC. These registered entities will have to comply with requirements in the Reliability Standard PRC-023-6.

⁸ TO = Transmission Owner, GO = Generator Owner, DP = Distribution Provider and PC = Planning Coordinator.

⁹ The estimated hourly cost (salary plus benefits) derived using the following formula: Burden Hours per Response * $/hour = Cost per Response. based on the Bureau of Labor Statistics (BLS), as of August 1, 2023, of an Electrical Engineer (17-2071)—$77.29,—and for Information and Record Clerks (43-4199) $56.14, The average hourly burden cost for this collection is [($77.29 + $56.14)/2 = $66.715)] rounded to $66.72 an hour.

Proposed Changes Due to Order in Docket No. RD23-5-000
Reliability standard & requirement | Type ⁸ and number of entity | Number of annual responses per entity | Total number of responses | Average number of burden hours per response ⁹ | Total burden hours
| (1) | (2) | (1) * (2) = (3) | (4) | (3) * (4) = (5)
FERC-725G
PRC-023-6:
TO | 324 | 1 | 324 | 16 hrs.; $1,067.52 | 5,184 hrs.; $345,876.48.
GO | 1,173 | 1 | 1,173 | 16 hrs.; $1,067.52 | 18,768 hrs.; $1,252,200.96.
DP | 371 | 1 | 371 | 8 hrs.; $533.76 | 2,968 hrs.; $198,024.96.
PC | 62 | 1 | 62 | 8 hrs.; $533.76 | 496; $33,093.12.
Total for PRC-023-6 One Time Estimate—Years 1 and 2 |  |  | 1,930 | 48 hrs.; $3,202.56 | 27,416 hrs.; $1,829,195.52.

The one-time burden of 27,416 hours that only applies for Year 1 and 2 will be averaged over three years (27,416 hours ÷ 3 = 9,138.67 hours/year over three years). The number of responses is also averaged over three years (1,930 responses ÷ 3 = 643.33 responses/year).

The responses and burden hours for Years 1-3 will total respectively as follows for Year 1 one-time burden:

Year 1: 643.33 responses; 9,138.67 hours

Year 2: 643.33 responses; 9,138.67 hours

Year 3: 643.33 responses; 9,138.67 hours

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 16, 2024.
Debbie-Anne A. Reese,
Acting Secretary.

[FR Doc. 2024-16080 Filed 7-22-24; 8:45 am]

BILLING CODE 6717-01-P